EXPORT-IMPORT BANK

[Public Notice: 2024-6121]

Agency Information Collection Activities: Submission to the Office of Management and Budget for Review and Approval; Comment Request; EIB 11-05, Exporter's Certificate for Loan Guarantee & MT Insurance Programs

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995.

DATES: Comments must be received on or before February 10, 2025 to be assured of consideration.

ADDRESSES: Comments may be submitted electronically on www.regulations.gov (EIB 11-05), by email to Donna Schneider, donna.schneider@exim.gov, or by mail to Donna Schneider, Export-Import Bank, 811 Vermont Ave. NW, Washington, DC 20571. The information collection tool can be reviewed at: https://img.exim.gov/s3fs-public/pub/pending/EIB 11-05 Exporter's+Certificate+November+ 2024.pdf.

FOR FURTHER INFORMATION CONTACT: To request additional information, please contact Donna Schneider, donna.schneider@exim.gov, 202-565-3612.

SUPPLEMENTARY INFORMATION: EXIM's borrowers, financial institution policy holders and guaranteed lenders provide this form to U.S. exporters, who certify to the eligibility of their exports for EXIM support. For direct loans and loan guarantees, the completed form is required to be submitted at time of disbursement and held by either the guaranteed lender or EXIM. For MT insurance, the completed forms are held by the financial institution, only to be submitted to EXIM in the event of a claim filing. EXIM uses the referenced form to obtain information from exporters regarding the export transaction and content sourcing. These details are necessary to determine the value and legitimacy of EXIM financing support and claims submitted. It also provides the financial institutions a check on the export transaction's eligibility at the time it is fulfilling a financing request.

Title and Form Number: EIB 11-05, Exporter's Certificate for Loan Guarantee & MT Insurance Programs.

OMB Number: 3048-0043.

Type of Review: Regular.

Need and Use: The information collected will allow EXIM to determine compliance and content for transaction requests submitted to the Export-Import Bank under its insurance, guarantee, and direct loan programs.

Affected Public: This form affects entities involved in the export of U.S. goods and services.

Annual Number of Respondents: 1,500.

Estimated Time per Respondent: 30 minutes.

Annual Burden Hours: 750 hours.

Frequency of Reporting of Use: As required.

Dated: December 4, 2024.
Andrew Smith,
Records Officer.

[FR Doc. 2024-28915 Filed 12-9-24; 8:45 am]

BILLING CODE 6690-01-P